DEPARTMENT OF COMMERCE

International Trade Administration

[C-427-810]

Corrosion-Resistant Carbon Steel Flat Products From France: Final Results of Countervailing Duty Administrative Review

AGENCY: Import Administration, International Trade Administration, Department of Commerce.

SUMMARY: On September 7, 2006, the Department of Commerce (“the Department”) published in the Federal Register its preliminary results of administrative review of the countervailing duty (“CVD”) order on corrosion-resistant carbon steel flat products (“CORE”) from France for the period January 1, 2004, through December 31, 2004 (see Preliminary Results of Countervailing Duty Administrative Review: Corrosion-Resistant Carbon Steel Flat Products from France, 71 FR 52770 (September 7, 2006) (“CORE Preliminary Results”)). The Department preliminarily found that Duferco Coating S.A. and Sorral S.A. (collectively, “Duferco Sorral”), the producer/exporter of subject merchandise covered by this review did not receive countervailable subsidies during the period of review (“POR”). We did not receive any comments on our preliminary results and have made no revisions to those results.

DATES: Effective Date: November 27, 2006.

FOR FURTHER INFORMATION CONTACT: Kristen Johnson, AD/CVD Operations, Office 3, Import Administration, International Trade Administration, U.S. Department of Commerce, 14th Street and Constitution Avenue, NW., Washington, DC 20230; telephone: (202) 482-4793.

SUPPLEMENTARY INFORMATION:

Background

On August 17, 1993, the Department published in the Federal Register the CVD order on CORE from France. See Countervailing Duty Order and Amendment to Final Affirmative Countervailing Duty Determination: Certain Steel Products from France, 58 FR 43759 (August 17, 1993). On September 7, 2006, the Department published in the Federal Register the preliminary results for this review (see CORE Preliminary Results).

In accordance with 19 CFR 351.213(b), this review covers Duferco Sorral, the only producer/exporter of the subject merchandise for which a review was specifically requested. In the CORE Preliminary Results, we invited interested parties to submit case briefs commenting on the preliminary results or request a hearing. We did not conduct a hearing in this review, as one was not requested, and did not receive case briefs.

Scope of the Order

This order covers cold-rolled (“cold-reduced”) carbon steel flat-rolled carbon steel products, of rectangular shape, either clad, plated, or coated with corrosion-resistant metals such as zinc, aluminum, or zinc-, aluminum-, nickel-or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule of the United States (“HTSUS”) under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090.

Included in this order are corrosion-resistant flat-rolled products of non-rectangular cross-section where such cross-section is achieved subsequent to the rolling process (i.e., products which have been “worked after rolling”)—for example, products which have been beveled or rounded at the edges. Excluded from this order are flat-rolled steel products either plated or coated with tin, lead, chromium, chromium oxides, both tin and lead (“terne plate”), or both chromium and chromium oxides (“tin-free steel”), whether or not painted, varnished or coated with plastics or other nonmetallic substances in addition to the metallic coating. Also excluded from this order are clad products in straight lengths of 0.1875 inch or more in composite thickness and of a width which exceeds 150 millimeters and measures at least twice the thickness. Also excluded from this order are certain clad stainless flat-rolled products, which are three-layered corrosion-resistant carbon steel flat-rolled products less than 4.75 millimeters in composite thickness that consist of a carbon steel flat-rolled product clad on both sides with stainless steel in a 20%-60%-20% ratio.

These HTSUS item numbers are provided for convenience and customs purposes. The written descriptions remain dispositive.

Final Results of Review

As noted above, the Department received no comments concerning the preliminary results. Therefore, consistent with the CORE Preliminary Results, we continue to find that Duferco Sorral did not receive countervailable subsidies during the POR. In accordance with section 705(c)(1)(B)(i) of the Tariff Act of 1930, as amended, we calculated a total net subsidy rate of 0.00 percent ad valorem for Duferco Sorral.

As there have been no changes to or comments on the preliminary results, we are not attaching a decision memorandum to this Federal Register notice. For further details of the programs included in this proceeding, see the CORE Preliminary Results.

Assessment Rates/Cash Deposits

The Department intends to issue assessment instructions to U.S. Customs and Border Protection (“CBP”) 15 days after the date of publication of these final results of this review, to liquidate shipments of subject merchandise by Duferco Sorral entered, or withdrawn from warehouse, for consumption on or after January 1, 2004, through December 31, 2004, without regard to countervailing duties. We will also instruct CBP not to collect cash deposits of estimated countervailing duties on shipments of the subject merchandise by Duferco Sorral entered, or withdrawn from warehouse, for consumption on or after the date of publication of the final results of this review.

For all non-reviewed companies, we will instruct CBP to continue to collect cash deposits at the most recent company-specific or country-wide rate applicable to the company. Accordingly, the cash deposit rates that will be applied to non-reviewed companies covered by this order are those established in the most recently completed administrative proceeding. See Certain Steel Products from France: Notice of Final Court Decision and Amended Final Determination of Countervailing Duty Investigation, 64 FR 67561 (December 2, 1999). These rates shall apply to all non-reviewed companies until a review of a company assigned these rates is requested.

Return of Destruction of Proprietary Information

This notice also serves as a reminder to parties subject to administrative protective order (“APO”) of their responsibility concerning the disposition of proprietary information disclosed under APO in accordance with 19 CFR 351.305(a)(3). Timely written notification of the return/destruction of APO materials or conversion to judicial protective order is hereby requested. Failure to comply with the regulations and the terms of an APO is a sanctionable violation.

We are issuing and publishing these results in accordance with sections 751(a)(1) and 777(i)(1) of the Act.

Dated: November 17, 2006.
Stephen J. Claeys,
Acting Assistant Secretary for Import Administration.

[FR Doc. 06-9409 Filed 11-24-06; 8:45 am]

BILLING CODE 3510-DS-P